SURFACE TRANSPORTATION BOARD

[Docket No. AB 497 (Sub-No. 7X)]

Minnesota Northern Railroad, Inc.—Abandonment Exemption—in Norman and Polk Counties, MN

Minnesota Northern Railroad, Inc. (MNN) filed a verified notice of exemption under 49 CFR 1152 subpart F—Exempt Abandonments to abandon approximately 5.8 miles of its “P Line” Subdivision between milepost 40.2 at the north end of the Marsh River Bridge, near Shelly, MN, and milepost 46.0 at Second Street in Nielsville, MN, in Norman and Polk Counties, MN (the Line). The Line traverses United States Postal Service Zip Codes 56561, 56568, and 56581.

MNN has certified that: (1) No local freight traffic has moved over the Line for at least two years; (2) no overhead traffic has moved over the Line for at least two years; (3) no formal complaint filed by a user of rail service on the line (or a state or local government acting on behalf of any such user) regarding cessation of service over the line either is pending before the Surface Transportation Board or any U.S. District Court or has been decided in favor of the complainant within the two-year period; and (4) the requirements at 49 CFR 1105.7(c) (environmental report), 49 CFR 1105.11 (transmittal letter), 49 CFR 1105.12 (newspaper publication), and 49 CFR 1152.50(d)(1) (notice to governmental agencies) have been met.

As a condition to this exemption, any employee adversely affected by the abandonment shall be protected under Oregon Short Line Railroad—Abandonment Portion Goshen Branch Between Firth & Ammon, in Bingham & Bonneville Counties, Idaho, 360 I.C.C. 91 (1979). To address whether this condition adequately protects affected employees, a petition for partial revocation under 49 U.S.C. 10502(d) must be filed.

Provided no formal expression of intent to file an offer of financial assistance (OFA) ¹ has been received, this exemption will be effective on November 5, 2018, unless stayed pending reconsideration. Petitions to stay that do not involve environmental issues,² formal expressions of intent to file an OFA under 49 CFR 1152.27(c)(2),³ and trail use/rail banking requests under 49 CFR 1152.29 must be filed by October 15, 2018. Petitions to reopen or requests for public use conditions under 49 CFR 1152.28 must be filed by October 25, 2018, with the Surface Transportation Board, 395 E Street SW, Washington, DC 20423-0001.

¹ The Board modified its OFA procedures effective July 29, 2017. Among other things, the OFA process now requires potential offerors, in their formal expression of intent, to make a preliminary financial responsibility showing based on a calculation using information contained in the carrier's filing and publicly available information. See Offers of Financial Assistance, EP 729 (STB served June 29, 2017); 82 FR 30,997 (July 5, 2017).

² The Board will grant a stay if an informed decision on environmental issues (whether raised by a party or by the Board's Office of Environmental Analysis (OEA) in its independent investigation) cannot be made before the exemption's effective date. See Exemption of Out-of-Serv. Rail Lines, 5 I.C.C.2d 377 (1989). Any request for a stay should be filed as soon as possible so that the Board may take appropriate action before the exemption's effective date.

³ Each OFA must be accompanied by the filing fee, which is currently set at $1,800. See Regulations Governing Fees for Servs. Performed in Connection with Licensing & Related Servs.—2017 Update, EP 542 (Sub-No. 25), slip op. App. B at 13 (STB served August 8, 2018).

A copy of any petition filed with the Board should be sent to MNN's representative, Thomas F. McFarland, Thomas F. McFarland, P.C., 208 South La Salle Street, Suite 1666, Chicago, IL 60604-1228.

If the verified notice contains false or misleading information, the exemption is void ab initio.

MNN has filed a combined environmental and historic report that addresses the effects, if any, of the abandonment on the environment and historic resources. OEA will issue an environmental assessment (EA) by October 12, 2018. Interested persons may obtain a copy of the EA by writing to OEA (Room 1100, Surface Transportation Board, Washington, DC 20423-0001) or by calling OEA at (202) 245-0305. Assistance for the hearing impaired is available through the Federal Information Relay Service (FIRS) at 1-800-877-8339. Comments on environmental and historic preservation matters must be filed within 15 days after the EA becomes available to the public.

Environmental, historic preservation, public use, or trail use/rail banking conditions will be imposed, where appropriate, in a subsequent decision.

Pursuant to the provisions of 49 CFR 1152.29(e)(2), MNN shall file a notice of consummation with the Board to signify that it has exercised the authority granted and fully abandoned the line. If consummation has not been effected by MNN's filing of a notice of consummation by October 5, 2019, and there are no legal or regulatory barriers to consummation, the authority to abandon will automatically expire.

Board decisions and notices are available on our website at www.stb.gov.

Decided: September 28, 2018.
By the Board, Scott M. Zimmerman, Acting Director, Office of Proceedings.
Jeffrey Herzig,
Clearance Clerk.

[FR Doc. 2018-21545 Filed 10-4-18; 8:45 am]

BILLING CODE 4915-01-P